DEPARTMENT OF ENERGY

Federal Energy Regulatory Commission

[Docket No. EC03-33-000, et al.]

Avista Corporation, et al.; Electric Rate and Corporate Filings

January 23, 2003.

The following filings have been made with the Commission. The filings are listed in ascending order within each docket classification.

1. Avista Corporation

[Docket No. EC03-48-000]

Take notice that on January 21, 2003, Avista Corporation filed with the Federal Energy Regulatory Commission (Commission) an application pursuant to Section 203 of the Federal Power Act for authorization of a disposition of jurisdictional facilities whereby Avista Corporation will sell approximately one-half mile of 115 kV transmission line to Modern Electric Company by cash sale.

Comment Date: February 11, 2003.

2. New York State Electric & Gas Corporation

[Docket No. ER97-2353-011]

Take notice that on December 27, 2002, New York State Electric & Gas Corporation (NYSEG) tendered an Errata Filing for correction to a Refund Report filed November 7, 2002 pursuant to the Commission's Opinion No. 447-B issued October 10, 2002 in the above mentioned docket.

NYSEG states that copies of the filing have been served upon the parties in the above-captioned proceeding.

Comment Date: February 3, 2003.

3. Sithe New Boston, LLC

[Docket No. ER02-648-002]

Take notice that on January 21, 2003, Sithe New Boston, LLC filed in compliance with the Commission's December 20, 2002 order in the above-captioned proceeding, 101 FERC ¶ 61,323, the Amended Reliability Must Run Agreement between Sithe New Boston and ISO New England, Inc., Sithe New Boston Rate Schedule FERC No. 3, amended to comply with the Commission's Order No. 614, Designation of Electric Rate Schedule Sheets, FERC Stats. & Regs. ¶ 31,096.

Comment Date: February 11, 2003.

4. Southwestern Public Service Company

[Docket Nos. ER02-1420-003 and ER02-1420-004]

Take notice that on January 21, 2003, Southwestern Public Service Company (Southwestern or the Company) tendered for filing a Compliance Report regarding its plans to participate in the regional transmission organization (RTO) to be formed by the proposed merger of the Midwest Independent Transmission System Operator, Inc., (Midwest ISO) and the Southwest Power Pool, Inc., (SPP).

Comment Date: February 11, 2003.

5. Quonset Point Cogen, L.P.

[Docket No. ER03-6-001]

Take notice that on January 17, 2003, Quonset Point Cogen, L.P. and PSEG Energy Technologies Inc. (Applicants) filed with the Federal Energy Regulatory Commission (Commission) a request to withdraw their November 8, 2002 request for deferral of Commission action in the above-captioned matter; and a request that the Commission resume its review, for approval, of the Thermal and Electric Energy Purchase Agreement filed on October 2, 2002 in Docket No. ER03-6-000.

Comment Date: February 7, 2003.

6. Idaho Power Company and NorthWestern Energy, a division of NorthWestern Corporation

[Docket No. ER03-102-001]

Take notice that on January 21, 2003, Idaho Power Company (Idaho Power) and NorthWestern Energy (NWE), a division of NorthWestern Corporation, submitted a filing in compliance with the Letter Order issued December 19, 2002 in this proceeding by the Director, Division of Tariffs and Market Development—West (December 19 Order). Pursuant to the December 19 Order, Idaho Power and NWE provided revised copies of the Agreement for Load Following Services between Idaho Power and NWE designated as required by Order No. 614, FERC Stats. & Regs., ¶ 31,096.

Comment Date: February 11, 2003.

7. New York State Electric & Gas Corporation

[Docket No. ER03-316-001]

Take notice that on January 17, 2003 New York State Electric & Gas Corporation (NYSEG) tendered an Errata Filing for corrections to its December 23, 2002 filing letter for revisions to the annual charges for routine operation and maintenance and general expenses, as well as revenue and property taxes based on data from NYSEG's annual report to FERC (FERC form 1) for the twelve month period ending December 31, 2001 for the Facilities Agreement with the Steuben Rural Electric Cooperative, Inc. in the above mentioned docket.

NYSEG states that copies of the filing have been served upon the other parties to the above captioned proceeding.

Comment Date: February 11, 2003.

8. Klondike Wind Power LLC

[Docket No. ER03-416-001]

Take notice that on January 21, 2003, Klondike Wind Power LLC (Klondike) submitted for filing a revised market-based tariff (Tariff) with the Federal Energy Regulatory Commission (Commission) reflecting its name change from West Valley Generation LLC. Klondike requests waiver of the 60-day prior notice requirement to allow its revised Tariff to become effective as of December 19, 2002.

Comment Date: February 11, 2003.

9. PPL Electric Utilities Corporation

[Docket No. ER03-431-000]

Take notice that on January 21, 2003, PPL Electric Utilities Corporation (PPL Electric) filed with the Federal Energy Regulatory Commission an executed Generator Interconnection Agreement between PPL Electric and Lower Mount Bethel Energy, LLC (Lower Mount Bethel).

PPL Electric and Lower Mount Bethel request an effective date for the Interconnection Agreement of March 24, 2003, which is the first business day falling at least sixty days from the date of filing.

Comment Date: February 11, 2003.

10. SP Newsprint Co.

[Docket No. ER03-432-000]

Take notice that on January 21, 2003, SP Newsprint Co. tendered for filing an application for authorization to sell energy, capacity, and other auxiliary services at market-based rates pursuant to Section 205 of the Federal Power Act.

Comment Date: February 11, 2003.

11. Progress Energy Service Company, on behalf of Progress Energy Carolinas, Inc.

[Docket No. ER03-433-000]

Take notice that on January 21, 2003, Progress Energy Service Company on behalf of Progress Energy Carolinas, Inc., (Progress Carolinas) tendered for filing an executed long-term Service Agreement between Progress Carolinas and the following eligible buyer, The Town of Waynesville, NC. Service to this eligible buyer will be in accordance with the terms and conditions of Progress Carolinas' Market-Based Rates Tariff, FERC Electric Tariff No. 5.

Progress Carolinas requests an effective date of January 1, 2003 for this Service Agreement. Progress Carolinas also states that copies of the filing were served upon the North Carolina Utilities Commission and the South Carolina Public Service Commission.

Comment Date: February 11, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-2233 Filed 1-29-03; 8:45 am]

BILLING CODE 6717-01-P